FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than December 2, 2022.

A. Federal Reserve Bank of Chicago (Colette A. Fried, Assistant Vice President) 230 South LaSalle Street, Chicago, Illinois 60690-1414:

1. Maureen Beck, Carroll, Iowa, and Jeffrey Renner, Bellevue, Nebraska; to join the White Family Control Group, and the Dennis Family Control Group, respectively, both groups acting in concert, to acquire voting shares of Halbur Bancshares, Inc., and thereby indirectly acquire voting shares of Westside State Bank, both of Westside, Iowa.

In addition, Matthew N. Lujano, Carroll, Iowa; a member of the White Family Control Group, to acquire additional voting shares of Halbur Bancshares, Inc., and thereby indirectly acquire voting shares of Westside State Bank.

B. Federal Reserve Bank of St. Louis (Holly A. Rieser, Senior Manager) P.O. Box 442, St. Louis, Missouri. Comments.applications@stls.frb.org comments:

1. Luanne Caryl Cundiff; James Raymond Droste; Christopher Anthony Goellner; John Wesley McClure, IV; and David Paul Strautz, all of St. Charles, Missouri; to acquire control of voting shares of First State Bancshares, Inc. (Bancshares), by becoming co-trustees of the First State Bank of St. Charles Employee Stock Ownership Plan, which owns voting shares of Bancshares, and thereby indirectly owns voting shares of First State Bank of St. Charles, Missouri, all of Saint Charles, Missouri.

Board of Governors of the Federal Reserve System.
Michele Taylor Fennell,
Deputy Associate Secretary of the Board.

[FR Doc. 2022-25069 Filed 11-16-22; 8:45 am]

BILLING CODE 6210-01-P